DEPARTMENT OF TRANSPORTATION

Federal Aviation Administration

14 CFR Part 39

[Docket No. 2004-NM-70-AD; Amendment 39-13614; AD 2004-09-24]

RIN 2120-AA64

Airworthiness Directives; Gulfstream Aerospace LP Model Galaxy and Gulfstream 200 Airplanes

AGENCY: Federal Aviation Administration, DOT.

ACTION: Final rule; request for comments.

SUMMARY: This amendment adopts a new airworthiness directive (AD) that is applicable to all Gulfstream Aerospace LP Model Galaxy and Gulfstream 200 airplanes. This action requires repetitive inspections of the internal and external spring sleeves of the aileron artificial feel unit (AFU) for proper lubrication, and lubrication if necessary. This action is necessary to prevent ice accumulation due to water entering the AFU, which could restrict or jam the aileron, resulting in reduced controllability of the airplane. This action is intended to address the identified unsafe condition.

DATES: Effective May 24, 2004.

The incorporation by reference of certain publications listed in the regulations is approved by the Director of the Federal Register as of May 24, 2004.

Comments for inclusion in the Rules Docket must be received on or before June 7, 2004.

ADDRESSES: Submit comments in triplicate to the Federal Aviation Administration (FAA), Transport Airplane Directorate, ANM-114, Attention: Rules Docket No. 2004-NM-70-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2004-NM-70-AD” in the subject line and need not be submitted in triplicate. Comments sent via fax or the Internet as attached electronic files must be formatted in Microsoft Word 97 or 2000 or ASCII text.

The service information referenced in this AD may be obtained from Gulfstream Aerospace Corporation, P.O. Box 2206, Mail Station D25, Savannah, Georgia 31402. This information may be examined at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The Civil Aviation Administration of Israel (CAAI), which is the airworthiness authority for Israel, recently notified the FAA that an unsafe condition may exist on all Gulfstream Model Galaxy and Gulfstream 200 airplanes. The CAAI advises that there have been several incidents of reduced aileron control due to water freezing in the internal and external spring sleeves of the aileron artificial feel unit (AFU). Investigation revealed a lack of the water displacing lubricant (Dow Corning 55) that prevents water ingress into the sleeves of the AFU. Such conditions could restrict or jam the aileron, which could result in reduced controllability of the airplane.

Explanation of Relevant Service Information

Gulfstream has issued Gulfstream Alert Service Bulletin 200-27A-230, dated February 18, 2004, which describes procedures for repetitive inspections of the internal and external spring sleeves of the aileron AFU for proper lubrication. The service bulletin also describes procedures for lubrication of the internal and external spring sleeves and the face of the nut of the AFU with Dow Corning 55 grease, if not properly lubricated.

The service bulletin refers to Certification Maintenance Procedure (CMP) Code 271051 of Chapter 05-10-00, of the Gulfstream 200 Airplane Maintenance Manual (AMM), as an additional source of service information for accomplishment of the inspection and lubrication of the internal and external spring sleeves of the aileron AFU.

Accomplishment of the action specified in the service bulletin is intended to adequately address the identified unsafe condition. The CAAI classified this service bulletin as mandatory and issued Israeli airworthiness directive 27-04-02-06, dated February 29, 2004, to ensure the continued airworthiness of these airplanes in Israel.

FAA's Conclusions

These airplane models are manufactured in Israel and are type certificated for operation in the United States under the provisions of section 21.29 of the Federal Aviation Regulations (14 CFR 21.29) and the applicable bilateral airworthiness agreement. Pursuant to this bilateral airworthiness agreement, the CAAI has kept us informed of the situation described above. We have examined the findings of the CAAI, reviewed all available information, and determined that AD action is necessary for products of this type design that are certificated for operation in the United States.

Explanation of Requirements of Rule

Since an unsafe condition has been identified that is likely to exist or develop on other airplanes of the same type design registered in the United States, this AD is being issued to prevent ice accumulation due to water entering the AFU, which could restrict or jam the aileron, resulting in reduced controllability of the airplane. This AD requires repetitive inspections of the internal and external spring sleeves of the aileron artificial feel unit (AFU) for proper lubrication, and lubrication if necessary. The actions are required to be accomplished in accordance with the service bulletin described previously, except as discussed below.

Difference Between Service Bulletin and This AD

Although the service bulletin referenced in this AD specifies to submit a service reply card to the manufacturer, this AD does not include such a requirement.

Clarification of Repetitive Inspection Intervals

Paragraph (a) of this AD requires that the initial inspection and lubrication of the aileron AFU be repeated at intervals not to exceed 300 flight hours. This interval is cited in CMP Code 271051 of Chapter 05-10-00 of the Gulfstream 200 AMM, as noted in the Accomplishment Instructions of the referenced service bulletin.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2004-NM-70-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-09-24 Gulfstream Aerospace LP (Formerly Israel Aircraft Industries, Ltd.): Amendment 39-13614. Docket 2004-NM-70-AD.

Applicability: All Model Galaxy and Gulfstream 200 airplanes, certificated in any category.

Compliance: Required as indicated, unless accomplished previously.

To prevent ice accumulation due to water entering the artificial feel unit (AFU), which could restrict or jam the aileron, resulting in reduced controllability of the airplane, accomplish the following:

Repetitive Inspections and Lubrication if Necessary

(a) Within 25 flight hours after the effective date of this AD: Do a detailed visual inspection for proper lubrication of the internal and external spring sleeves of the aileron AFU, by doing all the actions per the Accomplishment Instructions of Gulfstream Alert Service Bulletin 200-27A-230, dated February 18, 2004. If the AFU sleeves are not properly lubricated, before further flight, lubricate the internal and external spring sleeves and the face of the nut of the AFU with Dow Corning 55 grease, per the service bulletin. Repeat the inspection at intervals not to exceed 300 flight hours.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: Gulfstream Alert Service Bulletin 200-27A-230, dated February 18, 2004, refers to Certification Maintenance Procedure (CMP) Code 271051 of Chapter 05-10-00, of the Gulfstream 200 Airplane Maintenance Manual, as an additional source of service information for accomplishment of the inspection and lubrication of the internal and external spring sleeves of the aileron AFU.

No Reporting Requirement

(b) Although the service bulletin referenced in this AD specifies to submit a service reply card to the manufacturer, this AD does not include such a requirement.

Alternative Methods of Compliance

(c) In accordance with 14 CFR 39.19, the Manager, International Branch, ANM-116, FAA, Transport Airplane Directorate, is authorized to approve alternative methods of compliance for this AD.

Incorporation by Reference

(d) The actions shall be done in accordance with Gulfstream Alert Service Bulletin 200-27A-230, dated February 18, 2004. This incorporation by reference was approved by the Director of the Federal Register in accordance with 5 U.S.C. 552(a) and 1 CFR part 51. Copies may be obtained from Gulfstream Aerospace Corporation, P.O. Box 2206, Mail Station D25, Savannah, Georgia 31402. Copies may be inspected at the FAA, Transport Airplane Directorate, 1601 Lind Avenue, SW., Renton, Washington; or at the National Archives and Records Administration (NARA). For information on the availability of this material at NARA, Call 202-741-6030, or go to: http://www.archives.gov/federal_register/code_of_federal_regulations/ibr_locations.html.

Note 3: The subject of this AD is addressed in Israeli airworthiness directive 27-04-02-06, dated February 29, 2004.

Effective Date

(e) This amendment becomes effective on May 24, 2004.

Issued in Renton, Washington, on April 27, 2004.
Kevin M. Mullin,
Acting Manager, Transport Airplane Directorate, Aircraft Certification Service.

[FR Doc. 04-10239 Filed 5-6-04; 8:45 am]

BILLING CODE 4910-13-P